FEDERAL MINE SAFETY AND HEALTH REVIEW COMMISSION

Sunshine Act Meeting

February 22, 2006.

FEDERAL REGISTER CITATION OF PREVIOUS ANNOUNCEMENT: Vol. 71, No. __, at __, February __, 2006 [citation not available].

Previously Announced Time and Date: 10 a.m., Thursday, February 23, 2006.

Place: The Richard V. Backley Hearing Room, 9th Floor, 601 New Jersey Avenue, NW., Washington, DC.

Status: Open.

Change in Meeting: The Commission has postponed the meeting to consider and act upon Secretary of Labor v. Plateau Mining Corp., Docket Nos. WEST 2002-207 and WEST 2002-278.

No earlier announcement of the change in meeting was possible.

Contact Person for More Information: Jean Ellen, (202) 434-9950/(202) 708-9300 for TDD Relay/1-800-877-8339 for toll free.

Jean H. Ellen,
Chief Docket Clerk.

[FR Doc. 06-2147 Filed 3-2-06; 2:39 pm]

BILLING CODE 6735-01-M